FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 16, 2010.

A. Federal Reserve Bank of San Francisco (Kenneth Binning, Vice President, Applications and Enforcement) 101 Market Street, San Francisco, California 94105-1579:

1. Warburg Pincus Private Equity X, L.P.; Warburg Pincus X Partners, L.P.; Warburg Pincus X, L.P.; Warburg Pincus X, LLC; Warburg Pincus Partners, LLC; and Warburg Pincus & Co., all of New York, New York; to acquire voting shares of Sterling Financial Corporation, and thereby indirectly acquire voting shares of Sterling Savings Bank, both of Spokane, Washington, and Golf Savings Bank, Mountlake Terrace, Washington.

Board of Governors of the Federal Reserve System, May 27, 2010.
Robert deV. Frierson,
Deputy Secretary of the Board.

[FR Doc. 2010-13134 Filed 6-1-10; 8:45 am]

BILLING CODE 6210-01-S